DEPARTMENT OF HEALTH AND HUMAN SERVICES

Health Resources and Services Administration

Notification of a Class Deviation of Grants Policy Directive Part 2.04

AGENCY: Health Resources and Services Administration (HRSA), HHS.

ACTION: Notice.

SUMMARY: In accordance with the Grants Policy Directive Part 1.03, the Office of Health Information Technology (OHIT) has been granted a class deviation from the competition requirements contained in the Grants Policy Directive Part 2.04 to provide an additional year of funding without competition for Health Center Controlled Network (HCCN) Initiatives funded under Section 330 of the Public Health Service Act, as amended.

FOR FURTHER INFORMATION CONTACT: Susan Lumsden, Director, Division of Health Information Technology State and Community Assistance, Office of Health Information Technology, Health Resources and Services Administration, 5600 Fishers Lane, 7C-22, Rockville, Maryland 20857; telephone number: 301-594-4472; fax number: 301-443-1330.

SUPPLEMENTARY INFORMATION: In accordance with Public Health Service Act, Title III, Section 330(e)(1)(C), 42 U.S.C.254b (as amended).

Background

OHIT serves as the HRSA Administrator's principal advisor for promoting the adoption of and implementing health care information technology for the medically uninsured, underserved and other vulnerable populations, ensuring that key issues affecting the public and private adoption of health information technology are addressed (e.g., privacy and security issues, standardization, and interoperability). The HCCNs are key partners in enabling HRSA to help adopt and implement the President's Health Information Technology Initiative in the safety net community. The HCCNs support the creation, development, and operation of networks of safety net providers to ensure access to health care for the medically underserved populations through the enhancement of health center operations. The HCCNs routinely perform core business functions for their safety net members across their marketplace, State, or region. The core business functions range from electronic health records, credentialing and privileging programs, utilization review and management, and clinical quality improvement. They provide these functions at or below marketplace cost to their members to increase efficiencies, reduce costs, and improve health care quality for underserved and uninsured populations. As such, the HCCNs are key to achieving the President's goal of assuring that every American in the Nation will have an electronic health record by 2014.

Justification for the Exception to Competition

The creation of OHIT was part of HRSA's new priorities related to HIT and it is necessary that HRSA have an opportunity to ensure that its new HIT strategy and resources are reflected in its grant programs. Because OHIT was just established on December 27, 2005, and only became fully staffed in May 2006, there has been inadequate time to develop a new strategy to promote HIT in the safety net community and to establish funding priorities that are in line with the new office's goals.

The OHIT has granted 18 HCCN grants a one-time 12-month extension (with funds) of the current budget period, which expires August 31, 2006. This will avoid disruption of the HCCNs infrastructure and any impairment to the accomplishment of their work plans that would likely result from a competitive reallocation of funds without careful planning and advanced notice. All future funding for these activities will be based on a full and open competition that will focus on the most effective utilization of available resources in support of the Administration's new HIT objectives.

Grantee name | State | 12 month extension
South Cove CHC, Inc. | MA | $86,788
SW Virginia Community Health System | VA | 57,859
Keystone Rural Health Center | PA | 70,611
Aaron E. Henry CHC | MS | 57,859
Cook Area Health Services | MN | 62,487
Horizon Health Care, Inc. | SD | 86,788
Mariposa Community Health Center | AZ | 57,859
Asian Health Services | CA | 86,788
Southwest Virginia Community Health | VA | 167,742
Health Choice Network | FL | 173,576
Neighborhood Health Care Network | MN | 173,576
Central Oklahoma Integrated Network System | OK | 88,900
Colorado Community Managed Care Network | CO | 128,646
Community Health Center Network | CA | 173,576
Klamath Health Partnership | OR | 173,576
Collier Health Services, Inc. | FL | 82,237
Wasatch Homeless Health Care, Inc. | UT | 159,111
Oregon Primary Care Association | OR | 162,022
|  | 2,050,000

Dated: August 30, 2006.
Elizabeth M. Duke,
Administrator.

[FR Doc. E6-16088 Filed 9-29-06; 8:45 am]

BILLING CODE 4165-15-P